ENVIRONMENTAL PROTECTION AGENCY

[ER-FRL-8583-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 11, 2008 (73 FR 19833).

Draft EISs

EIS No. 20080028, ERP No. D-BLM-J02055-UT, West Tavaputs Plateau Natural Gas Full Field Development Plan, Develop the Natural Gas Resource on Leased and Unleased Lands, Carbon County, UT.

Summary: EPA believes the Draft EIS inadequately assessed potentially significant environmental impacts to air quality from the proposed development of 807 natural gas wells on the West Tavaputs Plateau. Plans are being developed to conduct additional air quality modeling and possibly additional air emission controls to further reduce the project's contribution to ozone by reducing volatile organic compounds and nitrous oxide emissions associated with the proposed project. Rating 3.

EIS No. 20080136, ERP No. D-BIA-K65340-CA, Ione Band of Miwok Indians Project, Proposed 228.04 Acre Fee-to-Trust Land Transfer and Casino Project, Amador County, CA.

Summary: EPA expressed environmental objections about water quality and reservoir construction impacts, and recommended recycled water use be maximized and that wastewater discharges occur through seasonal discharge to surface waters. Rating EO2.

EIS No. 20080160, ERP No. D-SFW-K91015-CA, Cullinan Ranch Unit Restoration Project, Proposing a Restoration Plan for 1,500 Acres of Former Hayfield Farm Land, San Pablo Bay, Issuance of Permits and/or Approval from Section 7 Endangered Species Act and U.S. Army COE Section 404 Permit, San Pablo Bay National Wildlife Refuge, CA.

Summary: EPA expressed environmental concerns about contaminated sediment management, and requested additional information regarding impacts to the larger San Pablo Bay sediment budget, and the adaptive management strategy. Rating EC2.

EIS No. 20080192, ERP No. D-AFS-J65514-MT, Sheppard Creek Post-Fire Project, Timber Salvage, Implementation, Flathead National Forest, Flathead and Lincoln Counties, MT.

Summary: EPA expressed environmental concerns about adverse impacts from the proposed salvage and road construction on water quality and the adequacy of watershed restoration measures to assure consistency with the TMDL, as well as the proposed Alternative D salvage harvests in riparian areas. Rating EC1.

EIS No. 20080193, ERP No. D-AFS-L67047-AK, Spencer Mineral Materials Project, Proposal to Develop and Extract Quarry Rock and Gravel from a Mineral Materials Site near Spencer Glacier, Chugach National Forest, Kenai Borough, AK.

Summary: EPA expressed environmental concerns about the potential impacts to water quality, wetlands, and local air quality, as well as the proposed mitigation measures and anticipated effectiveness. The final EIS should include additional information and analysis concerning these impacts. Rating EC2.

EIS No. 20080194, ERP No. D-SFW-G99007-TX, Williamson County Regional Habitat Conservation Plan, Application for an Incidental Take Permit, Williamson County, TX.

Summary: EPA does not object to the proposed action. Rating LO.

EIS No. 20080080, ERP No. DA-COE-K36098-CA, Santa Ana River Interceptor (SARI) Protection/Relocation Project, Reduce the Risk of Damage to the SARI to allow for the Operation of Santa Ana River Project (SARP), and Releases from Prato Dam of up to 30,000 cubic feet per second (cfs), Right-of-Way Permit and U.S. COE section 404 Permit, Orange and Riverside Counties, CA.

Summary: EPA expressed environmental concerns about the preferred alternative and recommended further evaluation of alternatives that avoid river crossings. EPA also recommended additional construction emission controls to meet air quality requirements and additional analysis of potential groundwater contamination. Rating EC2.

EIS No. 20080166, ERP No. DR-AFS-F65035-WA, Cayuga Project, New Information Regarding American Marten, Regional Forester Sensitive Species (RFSS), Changed Condition on the Landscape from Spruce Decline and New Non-Native Invasive Species Survey Information, Chequamegon-Nicolet National Forest, Great Divide Ranger District, Ashland County, WI.

Summary: EPA expressed environmental concerns because the proposed action would have adverse impacts on Regional Forester Species of Concern, and recommended selection of a different preferred alternative based new information in the EIS and the Biological Opinion. Rating EC2.

FINAL EISs

EIS No. 20070549, ERP No. F-BLM-J02050-UT, Chapita Wells-Stagecoach Area Natural Gas Development, Drilling and Production Operations of Natural Gas Wells and Associated Access Road, and Pipelines, Uintah County, UT.

Summary: The final EIS has addressed EPA's concerns about drilling new wells in the 100-year floodplain of the White River. However, EPA continues to have environmental concerns about impacts to air quality from this and other energy development projects in the airshed because the final EIS did not include an updated cumulative, air quality impact assessment for the Uinta Basin, or include new air quality information from the Vernal monitoring station. EPA also recommended additional mitigation measures that would reduce air emissions or phase the development over a longer time period to maintain air quality standards.

EIS No. 20080142, ERP No. F-COE-K28022-CA, Carryover Storage and San Vicente Dam Raise Project, Providing Additional Storage Capacity for 100,000 area feet of Water by the Year 2011, Issuance of Permits, section 10 and 404 Permits, San Diego County, CA.

Summary: EPA continues to have environmental concerns about the discussion of Clean Water Act jurisdiction for certain aquatic resources and the adequacy of proposed mitigation measures, the lack of enforceable water rationing, and impacts to air quality from construction activities.

EIS No. 20080174, ERP No. F-AFS-L65528-OR, Crawford Project and Proposed Nonsignificant Forest Plan Amendments, Commercial Timber Harvest, Prescribed Burning, Adjustments to Dedicated Old Growth Areas, and Road Closure and Decommissioning Activities, Implementation, Blue Mountain Ranger District, Malheur National Forest, Grant County, OR.

Summary: The Final EIS addressed EPA's concerns about roads and sediment impacts, information on road miles, costs, and timing of restoration and road decommissioning; therefore, EPA does not object to this project.

EIS No. 20080175, ERP No. F-AFS-K65333-00, Sage Steppe Ecosystem Restoration Strategy, Implementation, Modoc National Forest, Modoc, Lassen, Shasta Counties, CA and Washoe County, NV.

Summary: EPA does not object to the proposed action.

EIS No. 20080187, ERP No. F-AFS-J65489-MT, Marten Creek Project, Proposed Timber Harvest, Prescribed Fire Burning, Watershed Restoration, and Associated Activities, Cabinet Ranger District, Kootenai National Forest, Sanders County, MT.

Summary: The Final EIS addressed EPA's concerns; therefore, EPA does not object to this project.

EIS No. 20080214, ERP No. F-AFS-L65548-ID, Yakus Creek Project, Proposes Timber Harvest, Watershed Improvement, and Access Management Activities, Lochsa Ranger District, Clearwater National Forest, Idaho County, ID.

Summary: The final EIS has adequately addressed our concerns with impacts to source water, level of road closures, and the OHV connector trails; therefore, EPA does not object to this project.

EIS No. 20080221, ERP No. F-AFS-L65549-ID, Bussel 484 Project Area, Manage the Project Area to Achieve Desired Future Conditions for Vegetation, Fire, Fuels, Recreation, Access, Wildlife, Fisheries, Soil and Water, Idaho Panhandle National Forest, St. Joe Ranger District, Shoshone County, ID.

Summary: The Final EIS has adequately addressed EPA's concerns with impacts to water quality from new road construction and reduced new road construction should reduce long-term impacts to water quality; therefore, EPA does not object to this project.

EIS No. 20080223, ERP No. F-AFS-J65392-MT, Beartooth Ranger District Travel Management Planning, Proposing to Designate Routes for Public Motorized Use, and Change Management of Pack and Saddle Stock on Certain Trail, Beartooth Ranger District, Custer National Forest, Carbon, Stillwater, Sweet Grass, and Park Counties, MT.

Summary: EPA continues to have environmental concerns about potential effects to water quality, fisheries, wildlife and other resources from roads and motorized uses. Specifically, about roads in high risk areas and the lack of commitment to provide adequate resources to maintain roads and enforce travel limitations.

EIS No. 20080224, ERP No. F-STB-G53010-TX, Southwest Gulf Railroad Project, Construction and Operation Exemption, To Transport Limestone from Vulcan Construction Materials (VCM) Quarry to Del Rio Subdivision, Medina County, TX.

Summary: No formal comment letter was sent to the preparing agency.

EIS No. 20080226, ERP No. F-FRC-G03037-00, Midcontinent Express Pipeline Project, (Docket Nos. CP08-6-000), Construction and Operation to Facilitate the Transport of 1,500,000 dekatherms per day of Natural Gas from Production Fields in eastern TX, OK, and AR to Market Hub, Located in various counties and parishes in OK, TX, LA, MS and AL.

Summary: EPA does not object to the proposed action.

EIS No. 20080232, ERP No. F-AFS-K65339-CA, Orleans Community Fuels Reduction and Forest Health Project, To Manage Forest Stands to Reduce Hazardous Fuel Conditions, Orleans Ranger District, Six Rivers National Forest, Humboldt County, CA.

Summary: No formal comment letter was sent to the preparing agency.

EIS No. 20080236, ERP No. F-BIA-L65523-WA, Spokane Tribes Integrated Resource Management Plan (IRMP) for the Spokane Indian Reservation, Implementation, Stevens County, WA.

EIS No. 20080191, ERP No. FS-AFS-J65424-MT, Fishtrap Project, Updated Information on Past Maintenance/Restorative Treatments within Old Growth Stands, Timber Harvest, Prescribed Burning, Road Construction and Other Restoration Activities, Lolo National Forest, Plains/Thompson Falls Ranger District, Sanders County, MT.

Summary: The Final EIS addressed EPA's concerns about impacts to water quality and fisheries in the watershed as well as restoration actions over the long-term; therefore, EPA does not object to the proposed action.

EIS No. 20080246, ERP No. FS-AFS-J65448-UT, West Bear Vegetation Management Project, Additional Information to Improve a Portion of the Cumulative Effects Analysis and Correct the Soils Analysis, Timber Harvesting, Prescribed Burning, Roads Construction, Township 1 North, Range 9 East, Salt Lake Principle Meridian, Evanston Ranger District, Wasatch-Cache National Forest, Summit County, UT.

Summary: No formal comment letter was sent to the preparing agency.

Dated: July 15, 2008.
Robert W. Hargrove,
Director, NEPA Compliance Division, Office of Federal Activities.

[FR Doc. E8-16472 Filed 7-17-08; 8:45 am]

BILLING CODE 6560-50-P